DEPARTMENT OF COMMERCE

Submission for OMB Review; Comment Request

The Department of Commerce will submit to the Office of Management and Budget (OMB) for clearance the following proposal for collection of information under the provisions of the Paperwork Reduction Act (44 U.S.C. Chapter 35).

Agency: Economic Development Administration (EDA).

Title: Petition by a Firm for Certification of Eligibility to Apply for Trade Adjustment Assistance.

OMB Control Number: 0610-0091.

Form Number(s): ED-840P.

Type of Request: Regular submission.

Number of Respondents: 800.

Average Hours per Response: 128 hours, 12 minutes.

Burden Hours: 40,101.

Needs and Uses: The information contained in Form ED-840P is necessary for EDA to evaluate whether proposed projects satisfy eligibility and programmatic requirements contained in chapters 3 and 5 of title II of the Trade Act of 1974, as amended (19 U.S.C. 2341 et seq.) and the Trade and Globalization Adjustment Assistance Act (TGAAA) of 2009 which reauthorized the program.

Affected Public: Business or other for-profit organizations.

Frequency: On occasion.

Respondent's Obligation: Mandatory.

OMB Desk Officer: Sharon Mar, (202) 395-6466.

Copies of the above information collection proposal can be obtained by calling or writing Diana Hynek, Departmental Paperwork Clearance Officer, (202) 482-0266, Department of Commerce, Room 6625, 14th and Constitution Avenue, NW., Washington, DC 20230 (or via the Internet at dHynek@doc.gov).

Written comments and recommendations for the proposed information collection should be sent within 30 days of publication of this notice to Sharon Mar, OMB Desk Officer, FAX number (202) 395-5806, or Sharon_Mar@omb.eop.gov.

Dated: February 19, 2010.
Gwellnar Banks,
Management Analyst, Office of the Chief Information Officer.

[FR Doc. 2010-3776 Filed 2-24-10; 8:45 am]

BILLING CODE 3510-24-P